DEPARTMENT OF THE INTERIOR

Bureau of Land Management

[LLAK930000.L13100000.EI0000.241A]

National Petroleum Reserve-Alaska Oil and Gas Lease Sale 2011 and Notice of Availability of the Detailed Statement of Sale for Oil and Gas Lease Sale 2011 in the National Petroleum Reserve-Alaska

AGENCY: Bureau of Land Management, Interior.

ACTION: Notice.

SUMMARY: The Bureau of Land Management's (BLM) Alaska State Office hereby notifies the public it will hold an oil and gas lease sale bid opening for select tracts in the National Petroleum Reserve-Alaska. The United States reserves the right to withdraw any tract from this sale prior to issuance of a written acceptance of a bid.

DATES: The oil and gas lease sale bid opening will be held at 1 p.m. on Wednesday, Dec. 7, 2011. Sealed bids must be received by 4 p.m., Monday, Dec. 5, 2011.

ADDRESSES: The oil and gas lease sale bids will be opened at the Anchorage Federal Building, Denali Room (fourth floor), 222 W 7th Ave., Anchorage, Alaska. Sealed bids must be sent to Carol Taylor (AK932), BLM-Alaska State Office; 222 West 7th Ave. #13; Anchorage, Alaska 99513-7504.

FOR FURTHER INFORMATION CONTACT: Ted A. Murphy, (907) 271-4413. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: All bids must be submitted by sealed bid in accordance with the provisions identified in the Detailed Statement of Sale. They must be received at the BLM-Alaska State Office, Attn: Carol Taylor (AK932); 222 West 7th Avenue #13; Anchorage, Alaska 99513-7504; no later than 4 p.m., Monday, December 5, 2011.

The Detailed Statement of Sale for the National Petroleum Reserve-Alaska Oil and Gas Lease Sale 2011 will be available to the public immediately after publication of this Notice in the Federal Register. The Detailed Statement may be obtained from the BLM-Alaska Web site at http://www.blm.gov/ak, or by request from the Public Information Center, BLM-Alaska State Office; 222 West 7th Avenue #13; Anchorage, Alaska 99513-7504; telephone (907) 271-5960. The Detailed Statement of Sale will include, among other things, a description of the areas to be offered for lease, the lease terms, conditions, special stipulations, required operating procedures, and how and where to submit bids.

Dated: October 5, 2011.
Ted Murphy,
Acting State Director.

Authority: 43 CFR 3131.4-1 and 43 U.S.C. 1733 and 1740.

[FR Doc. 2011-28561 Filed 11-3-11; 8:45 am]

BILLING CODE 4310-JA-P